DEPARTMENT OF THE TREASURY

Submission for OMB Review; Comment Request

March 15, 2005.

The Department of the Treasury has submitted the following public information collection requirement(s) to OMB for review and clearance under the Paperwork Reduction Act of 1995, Pub. L. 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before April 25, 2005 to be assured of consideration.

Internal Revenue Service (IRS)

OMB Number: 1545-0146.

Form Number: IRS Form 2553.

Type of Review: Revision.

Title: Election by a Small Business Corporation.

Description: Form 2553 is filed by a qualifying corporation to elect to be an S corporation as defined in Code section 1361. The information obtained is necessary to determine if the election should be accepted by the IRS. When the election is accepted, the qualifying corporation and the corporation's income is taxed to the shareholders of the corporation.

Respondents: Business or other for-profit, Farms.

Estimated Number of Respondents/Recordkeepers: 500,000.

Estimated Burden Hours Respondent/Recordkeeper:

Recordkeeping—9 hr., 19 min.

Learning about the law or the form—3 hr., 9 min.

Preparing, copying, assembling, and sending the form to the IRS—4 hr., 38 min.

Frequency of response: Other (once).

Estimated Total Reporting/Recordkeeping Burden: 8,555,000 hours.

Clearance Officer: Glenn P. Kirkland, (202) 622-3428, Internal Revenue Service, Room 6516, 1111 Constitution Avenue, NW., Washington, DC 20224.

OMB Reviewer: Joseph F. Lackey, Jr., (202) 395-7316, Office of Management and Budget, Room 10235, New Executive Office Building, Washington, DC 20503.

Lois K. Holland,
Treasury PRA Clearance Officer.

[FR Doc. 05-5928 Filed 3-24-05; 8:45 am]

BILLING CODE 4830-01-P